DEPARTMENT OF EDUCATION

34 CFR Part 685

[Docket ID ED-2023-OPE-0004]

RIN 1840-AD81

Improving Income Driven Repayment for the William D. Ford Federal Direct Loan Program and the Federal Family Education Loan (FFEL) Program

AGENCY: Office of Postsecondary Education, Department of Education.

ACTION: Announcement of early implementation date.

SUMMARY: The U.S. Department of Education (Department) designates a regulatory provision in its final rule related to income-driven repayment for early implementation.

DATES: October 23, 2023. For the implementation dates of the regulatory provision, see SUPPLEMENTARY INFORMATION.

FOR FURTHER INFORMATION CONTACT: Bruce Honer, U.S. Department of Education, 400 Maryland Avenue SW, 5th Floor, Washington, DC 20202. Telephone: (202) 987-0750. Email: Bruce.Honer@ed.gov.

If you are deaf, hard of hearing, or have a speech disability and wish to access telecommunications relay services, please dial 7-1-1.

SUPPLEMENTARY INFORMATION: Section 482(c)(1) of the Higher Education Act of 1965, as amended (HEA), requires that regulations affecting programs under title IV of the HEA be published in final form by November 1 prior to the start of the award year (July 1) to which they apply. Section 482(c)(2) of the HEA also permits the Secretary to designate any regulatory provision as one that an entity subject to the provision may choose to implement earlier and to outline the conditions for early implementation.

On July 10, 2023, the Department published in the Federal Register a final rule amending regulations related to income-driven repayment (88 FR 43820). In that final rule, we designated certain provisions for early implementation.

The Secretary is exercising his authority under section 482(c) of the HEA to designate an additional regulatory change made in that final rule for early implementation beginning on October 23, 2023.

The Secretary is designating for early implementation the change to the process for a borrower re-enrolling in the Revised Pay As You Earn (REPAYE) repayment plan, which is now also known as the Saving on a Valuable Education (SAVE) repayment plan, after previously being enrolled in a different plan. Under current 34 CFR 685.209(c)(4)(vi)(D) and (E), a borrower returning to REPAYE must provide documentation of income for the years in which the borrower was not on REPAYE. Section 685.209(e) of the final rule, which will become effective on July 1, 2024, employs a simpler process that does not require documentation of prior years' income information. See 88 FR 43820, 43901. On October 23, 2023, the Department will implement § 685.209(e), to the extent it eliminates the requirement for borrowers returning to SAVE after having previously been on REPAYE to provide prior years' income. The Secretary is designating only the removal of this requirement for early implementation, rather than all of § 685.209(e).

While documentation of income for years in which a borrower was not enrolled in REPAYE is no longer required, a borrower will still need to provide documentation of their income information to allow the Department to calculate the borrower's current monthly payment amount under the SAVE plan.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF, you must have Adobe Acrobat Reader, which is available free at the site.

You may also access documents of the Department published in the Federal Register by using the article search feature at www.federalregister.gov. Specifically, through the advanced search feature at this site, you can limit your search to documents published by the Department.

Miguel A. Cardona,
Secretary of Education.

[FR Doc. 2023-23334 Filed 10-20-23; 8:45 am]

BILLING CODE 4000-01-P